DEPARTMENT OF LABOR

Employment and Training Administration

[TA-W-65,848]

MAG Automation and Controls, Machesney Park, IL; Notice of Termination of Investigation

Pursuant to Section 221 of the Trade Act of 1974, as amended, an investigation was initiated on April 24, 2009, in response to a petition filed on behalf of workers at MAG Automation and Controls, Machesney Park, Illinois.

The petitioners have requested that the petition be withdrawn. Consequently, the investigation has been terminated.

Signed at Washington, DC, this 7th day of May 2009.
Elliott S. Kushner,
Certifying Officer, Division of Trade Adjustment Assistance.

[FR Doc. E9-13461 Filed 6-8-09; 8:45 am]

BILLING CODE 4510-FN-P